DEPARTMENT OF THE INTERIOR

Bureau of Land Management

[LLNM940000L1220000.XH0000]

Notice of Filing of Plats of Survey, New Mexico

AGENCY: Bureau of Land Management, Interior.

ACTION: Notice of filing of Plats of Survey.

SUMMARY: The plats of survey described below are scheduled to be officially filed in the New Mexico State Office, Bureau of Land Management, Santa Fe, New Mexico, thirty (30) calendar days from the date of this publication.

FOR FURTHER INFORMATION CONTACT: These plats will be available for inspection in the New Mexico State Office, Bureau of Land Management, 301 Dinosaur Trail, Santa Fe, New Mexico. Copies may be obtained from this office upon payment. Contact Marcella Montoya at 505-954-2097, or by e-mail at Marcella_Montoya@nm.blm.gov, for assistance.

SUPPLEMENTARY INFORMATION:

New Mexico Principal Meridian, New Mexico (NM)

The plat, representing the dependent resurvey and survey, in Township 8 North, Range 18 West, of the New Mexico Principal Meridian, accepted July 15, 2010, for Group 1105 NM.

The plat, representing the dependent resurvey and survey, in Township 5 South, Range 16 East, of the New Mexico Principal Meridian, accepted September 29, 2010, for Group 957 NM.

The plat, in two sheets, representing the dependent resurvey and survey, in Township 30 North, Range 21 West, of the New Mexico Principal Meridian, accepted September 30, 2010, for Group 1113 NM.

The supplemental plat, for Township 29 North, Range 13 East, of the New Mexico Principal Meridian accepted August 25, 2010.

The plat, representing the dependent resurvey and survey, of Antoine Leroux Grant, of the New Mexico Principal Meridian accepted August 25, 2010, for Group 1086 NM.

The plat, in two sheets, representing the dependent resurvey and survey, in Township 8 North, Range 4 East, of the New Mexico Principal Meridian, accepted October 18, 2010, for Group 1114 NM.

Indian Meridian, Oklahoma (OK)

The plat, representing the dependent resurvey and survey in Township 26 North, Range 25 East, of the Indian Meridian, accepted May 26, 2010, for Group 179 OK.

The plat, representing the dependent resurvey and survey in Township 20 North, Range 5 East, of the Indian Meridian, accepted August 19, 2010, for Group 186 OK.

The plat, representing the dependent resurvey and survey in Township 4 South, Range 2 West, of the Indian Meridian, accepted September 27, 2010, for Group 192 OK.

The plat, representing the dependent resurvey and survey in Township 12 North, Range 17 West, of the Indian Meridian, accepted October 6, 2010, for Group 188 OK.

The plat, in four sheets, representing the dependent resurvey and survey in Township 10 North, Range 24 East, of the Indian Meridian, accepted July 22, 2010, for Group 61 OK.

The plat, representing the dependent resurvey and survey in Township 18 North, Range 20 East, of the Indian Meridian, accepted November 19, 2010, for Group 189 OK.

Sixth Principal Meridian, Kansas (KS)

The plat, representing the dependent resurvey and survey, in Township 9 South, Range 14 East, of the Sixth Principal Meridian, accepted September 27, 2010, for Group 33 KS.

The plat, representing the dependent resurvey and survey, in Township 35 South, Range 25 East, of the Sixth Principal Meridian, accepted November 19, 2010, for Group 29 KS.

If a protest against a survey, in accordance with 43 CFR 4.450-2, of the above plat is received prior to the date of official filing, the filing will be stayed pending consideration of the protest. A plat will not be officially filed until the day after all protests have been addressed.

If a protest against a survey, as shown on any of the above plats, is received prior to the date of official filing, the filing will be stayed pending consideration of the protest. A plat will not be officially filed until the day after all protests have been dismissed and become final or appeals from the dismissal affirmed.

A person or party who wishes to protest against any of these surveys must file a written protest with the Bureau of Land Management New Mexico State Director stating that they wish to protest.

A statement of reasons for a protest may be filed with the notice of protest to the State Director or the statement of reasons must be filed with the State Director within thirty (30) days after the protest is filed.

Robert A. Casias,
Deputy State Director of Cadastral Survey/GeoSciences.

[FR Doc. 2011-1442 Filed 1-24-11; 8:45 am]

BILLING CODE 4310-FB-P